INTERNATIONAL TRADE COMMISSION

[Investigation No. 337-TA-824]

Certain Blu-Ray Disc Players, Components Thereof and Products Containing the Same; Termination of an Investigation

AGENCY: U.S. International Trade Commission.

ACTION: Notice.

SUMMARY: Notice is hereby given that the U.S. International Trade Commission has determined not to review the presiding administrative law judge's (“ALJ”) initial determinations (“IDs”) (Order Nos. 42-43) terminating the above-captioned investigation as to five respondents on the basis of withdrawal of the complaint (Order No. 42) and as to the two remaining respondents on the basis of a settlement agreement (Order No. 43). Termination as to these last remaining respondents thereby terminates the investigation.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 11, 2012, based on a complaint filed by Walker Digital LLC of Stamford, Connecticut (“Walker”), alleging a violation of section 337 by reason of the infringement of certain claims of U.S. Patent No. 6,263,505. 77 FR 1725 (Jan. 11, 2012). The notice of institution named thirty-five respondents. Most respondents have already been terminated from the investigation.

On August 27, 2012, Walker moved to terminate the investigation as to respondents Sony Corporation and Sony Computer Entertainment Inc., both of Tokyo, Japan; Sony Corporation of America of New York, New York; Sony Electronics Inc. of San Diego, California; and Sony Computer Entertainment America of Foster City, California (collectively, “Sony”) based upon withdrawal of the complaint against Sony. On September 6, 2012, the Commission investigative attorney (“IA”) responded in support of the motion. On December 12, 2012, Walker filed a supplemental memorandum indicating that there are no agreements between Walker and Sony regarding the subject matter of this investigation. See 19 CFR 210.21(a)(1). On December 14, 2012, the ALJ granted the motion as an ID. Order No. 42.

On December 6, 2012, Walker and the last two respondents, Toshiba Corporation of Tokyo, Japan; and Toshiba America Information Systems, Inc. of Irvine, California (collectively, “Toshiba”) moved to terminate the investigation as to Toshiba on the basis of a settlement agreement. On December 17, 2012, the IA responded in support of the motion. On December 18, 2012, the ALJ granted the motion as an ID. Order No. 43. The ALJ determined that termination as to Toshiba is in the public interest. Id. at 2; see 19 CFR 210.50(b)(2).

No petitions for review of the IDs were filed. The Commission has determined not to review the IDs. Termination as to these last remaining respondents thereby terminates the investigation.

The authority for the Commission's determination is contained in section 337 of the Tariff Act of 1930, as amended (19 U.S.C. 1337), and in sections 210.21 and 210.42 of the Commission's Rules of Practice and Procedure (19 CFR 210.21, 210.42).

Issued: January 14, 2013.
By order of the Commission.
Lisa R. Barton,
Acting Secretary to the Commission.

[FR Doc. 2013-00909 Filed 1-16-13; 8:45 am]

BILLING CODE 7020-02-P